DEPARTMENT OF ENERGY

Federal Energy Regulatory Commission

Combined Notice of Filings #1

Take notice that the Commission received the following electric corporate filings:

Docket Numbers: EC17-30-000.

Applicants: Kelly Creek Wind, LLC.

Description: Application for Authorization under Section 203 of the Federal Power Act and Request for Expedited Consideration and Confidential Treatment of Kelly Creek Wind, LLC.

Filed Date: 11/9/16.

Accession Number: 20161109-5161.

Comments Due: 5 p.m. ET 11/30/16.

Take notice that the Commission received the following electric rate filings:

Docket Numbers: ER14-1193-002.

Applicants: West Deptford Energy, LLC.

Description: Compliance filing: Informational Filing Regarding Planned Transfer to be effective N/A.

Filed Date: 11/7/16.

Accession Number: 20161107-5254.

Comments Due: 5 p.m. ET 11/28/16.

Docket Numbers: ER15-1682-005.

Applicants: TransCanyon DCR, LLC.

Description: Compliance filing: Formula Rate Template Compliance Filing to be effective 7/6/2015.

Filed Date: 11/9/16.

Accession Number: 20161109-5152.

Comments Due: 5 p.m. ET 11/30/16.

Docket Numbers: ER17-336-000.

Applicants: Duke Energy Florida, LLC.

Description: § 205(d) Rate Filing: Mount Dora NITSA-NOA Amendment SA No. 151 to be effective 1/1/2017.

Filed Date: 11/10/16.

Accession Number: 20161110-5060.

Comments Due: 5 p.m. ET 12/1/16.

Take notice that the Commission received the following electric reliability filings:

Docket Numbers: RR17-1-000.

Applicants: North American Electric Reliability Corporation.

Description: Petition of the North American Electric Reliability Corporation for Approval of Amendments to the Florida Reliability Coordinating Council Regional Reliability Standard Development Process Manual.

Filed Date: 11/10/16.

Accession Number: 20161110-5072.

Comments Due: 5 p.m. ET 12/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2016.
Kimberly D. Bose,
Secretary.

[FR Doc. 2016-27809 Filed 11-17-16; 8:45 am]

BILLING CODE 6717-01-P